DEPARTMENT OF TRANSPORTATION

Coast Guard

[USCG 2000-7821]

Collection of Information Under Review by Office of Management and Budget (OMB): OMB Control Numbers 2115-0628 and 2115-0015

AGENCY: Coast Guard, DOT.

ACTION: Request for comments.

SUMMARY: In compliance with the Paperwork Reduction Act of 1995, the Coast Guard intends to seek the approval of OMB for the renewal of two Information Collection Requests (ICRs). The ICRs comprise Navigation Safety Equipment and Emergency Instructions for Certain Towing Vessels, and Shipping Articles. Before submitting the ICRs to OMB, the Coast Guard is requesting comments on the collections described below.

DATES: Comments must reach the Coast Guard on or before November 13, 2000.

ADDRESSES: You may mail comments to the Docket Management System (DMS) [USCG 2000-7821], U.S. Department of Transportation (DOT), room PL-401, 400 Seventh Street SW., Washington, DC 20590-0001, or deliver them to room PL-401, located on the Plaza Level of the Nassif Building at the same address between 9 a.m. and 5 p.m., Monday through Friday, except Federal holidays. The telephone number is 202-366-9329.

The DMS maintains the public docket for this request. Comments will become part of this docket and will be available for inspection or copying in room PL-401, located on the Plaza Level of the Nassif Building at the above address between 9 a.m. and 5 p.m., Monday through Friday, except Federal holidays. You may also access this docket on the Internet at http://dms.dot.gov.

Copies of the complete ICRs are available through this docket on the Internet at http://dms.dot.gov and also from Commandant (G-CIM-2), U.S. Coast Guard Headquarters, room 6106 (Attn: Barbara Davis), 2100 Second Street SW., Washington, DC 20593-0001. The telephone number is 202-267-2326.

FOR FURTHER INFORMATION CONTACT: Barbara Davis, Office of Information Management, 202-267-2326, for questions on this document; Dorothy Walker, Chief, Documentary Services Division, U.S. Department of Transportation, 202-366-9330, for questions on the docket.

Request for Comments

The Coast Guard encourages interested persons to submit written comments. Persons submitting comments should include their names and addresses, identify this document [USCG 2000-7821], and give the reason for the comment. Please submit all comments and attachments in an unbound format no larger than 8 ½ by 11 inches, suitable for copying and electronic filing. Persons wanting acknowledgment of receipt of comments should enclose stamped, self-addressed postcards or envelopes.

Information Collection Request

1. Title: : Navigation Safety Equipment and Emergency Instructions for Certain Towing Vessels.

OMB Control Number: 2115-0628.

Summary: Rules on Navigation safety equipment help assure that the mariner piloting a towing vessel has adequate equipment, charts, maps, and other publications. For inspected towing vessels, a muster list and emergency instructions provide effective plans and references for crew to follow in an emergency.

Need: The purpose of the rules is to improve the safety of towing vessels and the crews that operate them.

Respondents: Owners, operators, and masters of vessels.

Frequency: On occasion.

Burden Estimate: The estimated burden is 281,998 hours annually.

2. Title: Shipping Articles.

OMB No. 2115-0015.

Summary: The collection of information requires merchant mariners to complete form CG-705A, Shipping Articles, before entering the service of a shipping company.

Need: 46 U.S.C. 10103,10302, 10303, 10304, and 10307 require a master of a vessel to have each crewmember make a shipping-article agreement in writing before proceeding on a voyage.

Respondents: Merchant mariners.

Frequency: On occasion.

Burden Estimate: The estimated burden is 18,000 hours annually.

Dated: September 5, 2000.
V.S. Crea,
Director of Information and Technology.

[FR Doc. 00-23258 Filed 9-8-00; 8:45 am]

BILLING CODE 4910-15-U